DEPARTMENT OF ENERGY

Federal Energy Regulatory Commission

Combined Notice of Filings No. 2

Take notice that the Commission has received the following Natural Gas Pipeline Rate and Refund Report filings:

Docket Numbers: RP10-1189-002.

Applicants: Northwest Pipeline GP.

Description: Northwest Pipeline GP submits tariff filing per 154.203: NWP Index-Based Capacity Release to be effective 4/1/2011.

Filed Date: 02/23/2011.

Accession Number: 20110223-5151.

Comment Date: 5 p.m. Eastern Time on Monday, March 07, 2011.

Docket Numbers: RP10-877-003.

Applicants: Cameron Interstate Pipeline, LLC.

Description: Request of Cameron Interstate Pipeline, LLC for Additional Time to Make Compliance Filing.

Filed Date: 02/23/2011.

Accession Number: 20110223-5093.

Comment Date: 5 p.m. Eastern Time on Monday, March 07, 2011.

Docket Numbers: RP10-877-005.

Applicants: Cameron Interstate Pipeline, LLC.

Description: Request of Cameron Interstate Pipeline, LLC for Additional Time to Make Compliance Filing.

Filed Date: 02/23/2011.

Accession Number: 20110223-5093.

Comment Date: 5 p.m. Eastern Time on Monday, March 07, 2011.

Docket Numbers: RP10-1400-003.

Applicants: Chandeleur Pipe Line Company.

Description: Chandeleur Pipe Line Company submits tariff filing per 154.203: Amendment to Order No. 714 Compliance Filing to be effective 11/1/2010.

Filed Date: 02/17/2011.

Accession Number: 20110217-5052.

Comment Date: 5 p.m. Eastern Time on Tuesday, March 01, 2011.

Docket Numbers: RP11-1700-001.

Applicants: Dominion Cove Point LNG, LP.

Description: Dominion Cove Point LNG, LP submits tariff filing per 154.203: DCP—Off-System Capacity—Compliance to be effective 2/12/2011.

Filed Date: 02/22/2011.

Accession Number: 20110222-5016.

Comment Date: 5 p.m. Eastern Time on Monday, March 07, 2011.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Dated: February 24, 2011.
Nathaniel J. Davis, Sr.,
Deputy Secretary.

[FR Doc. 2011-4840 Filed 3-3-11; 8:45 am]

BILLING CODE 6717-01-P